DEPARTMENT OF ENERGY

Federal Energy Regulatory Commission

[Docket No. PF07-9-000]

Steckman Ridge, L.P.; Notice of Intent To Prepare an Environmental Assessment for the Proposed Steckman Ridge Storage Project and Request for Comments on Environmental Issues

August 20, 2007.

The staff of the Federal Energy Regulatory Commission (FERC or Commission) will prepare an environmental assessment (EA) that will address the environmental impacts of the Steckman Ridge Storage Project proposed by Steckman Ridge, L.P. (Steckman). The Commission will use the EA in its decision-making process to determine whether or not to authorize the project. This notice explains the scoping process the FERC staff will use to gather input from the public and interested agencies on the project. Your input will help us determine the issues that need to be evaluated in the EA. Please note that the scoping period will close on September 20, 2007.

This notice is being sent to affected landowners; federal, state, and local government agencies; elected officials; environmental and public interest groups; Native American tribes; other interested parties; and local libraries and newspapers. We ¹ encourage government representatives to notify their constituents of this planned project and encourage them to comment on their areas of concern.

¹ “We,” “us,” and “our” refer to the environmental staff of the FERC's Office of Energy Projects.

If you are a landowner receiving this notice, you may be contacted by a Steckman representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Steckman proposes to convert a depleted natural gas production field into a multi-cycle natural gas storage facility located in Bedford County, Pennsylvania. The proposed facility would have about 17.7 billion cubic feet (Bcf) total capacity (up to 12 Bcf would be working capacity and 5.7 Bcf would be base gas). The proposed project would include:

Removal and/or abandonment of existing production field piping and aboveground equipment; Conversion of 5 depleted production wells into storage wells; Drilling and development of 18 new storage wells and construction of wellhead facilities; Construction of a storage field pipeline network and associated aboveground facilities including launcher/receiver facilities and valve sites; and Construction of one 9,000 horsepower compressor station, including a meter and regulator station, common launcher and receiver facility, and other associate appurtenances.

The storage field piping network would include the Trunk Line 91 (about 3.13 miles of 16-inch diameter pipeline), Trunk Line 90 (about 4.36 miles of 16-inch diameter pipeline), and 23 well laterals totaling 3.6 miles of 6-inch, 8-inch, and 10-inch diameter pipeline. Steckman plans to file its certificate application in November 2007 and anticipates receiving a Commission certificate by April 2008.

A general location of the proposed project is provided in Appendix 1.²

² The appendices referenced in this notice are not being printed in the Federal Register. Copies of all appendices, other than Appendix 1 (maps), are available on the Commission's website at the “eLibrary” link or from the Commission's Public Reference Room, 888 First Street, N.E., Washington, D.C. 20426, or call (202) 502-8371. For instructions on connecting to eLibrary refer to the Public Participation section of this notice. Copies of the appendices were sent to all those receiving this notice in the mail. Requests for detailed maps of the proposed facilities should be made directly to Iroquois.

Land Requirements for Construction

The Steckman Ridge Storage Project is in the preliminary planning stage. The precise facility design, pipeline route, rights-of-way, and other details have not yet been finalized. The proposed storage field piping network is being planned to follow routes of the existing production rights-of-way where possible. Specific information on the proposed project location and the land used by it will be made available to the public when it is finalized.

The proposed storage field would be located on about 1,800 acres, and a buffer zone surrounding the filed would be established on about 2,900 acres. Construction of the proposed compressor station would require about 35 acres of land, and operation of the station would require maintaining about 23 acres of the affected land.

The EA Process

The National Environmental Policy Act (NEPA) requires the Commission to take into account the environmental impacts that could result from an action when it considers whether or not an interstate natural gas pipeline should be approved. The FERC will use the EA to consider the environmental impact that could result if the Steckman Ridge Storage Project is authorized under section 7 of the Natural Gas Act. NEPA also requires us to discover and address concerns the public may have about proposals to be considered by the Commission. This process is referred to as “scoping.” The main goal of the scoping process is to focus the analysis in the EA on the important environmental issues. With this Notice of Intent, the Commission staff is requesting public comments on the scope of the issues to be addressed in the EA. All comments received will be considered during preparation of the EA.

Our independent analysis of the issues will be included in the EA. We will also evaluate possible alternatives to the proposed project or portions of the project, and make recommendations on how to lessen or avoid impacts on affected resources.

The EA will be mailed to federal, state, and local government agencies; elected officials; environmental and public interest groups; Native American tribes; affected landowners; commentors; other interested parties; local libraries and newspapers; and the FERC's official service list for this proceeding. A 30-day comment period will be allotted for review of the EA. We will consider all comments on the EA before we make our recommendations to the Commission. To ensure that your comments are considered, please follow the instructions in the Public Participation section of this notice.

Although no formal application has been filed, the FERC staff has already initiated its NEPA review under its Pre-filing Process. The purpose of the Pre-filing Process is to encourage the early involvement of interested stakeholders and to identify and resolve issues before an application is filed with the FERC.

With this notice, we are asking federal, state, and local governmental agencies with jurisdiction and/or special expertise with respect to environmental issues, to express their interest in becoming cooperating agencies for the preparation of the EA. These agencies may choose to participate once they have evaluated the proposal relative to their responsibilities. Agencies that would like to request cooperating status should follow the instructions for filing comments provided below (see Public Participation).

Currently Identified Environmental Issues

The EA will discuss impacts that could occur as a result of the construction and operation of the proposed project. We have already identified several issues that we think deserve attention based on a preliminary review of the project site and the facility information provided by Steckman. This preliminary list of issues may be changed based on your comments and our analysis.

• Potential impacts on perennial and intermittent streams and waterbodies.

• Evaluation of temporary and permanent impacts on wetlands.

• Potential effect on federally and state-listed species.

• Potential visual effects of the aboveground facilities on surrounding areas.

• Potential impacts to local air and noise quality associated with construction and operation.

• Public safety and potential hazards associated with the transport of natural gas and the proposed compressor facilities.

Public Participation

You can make a difference by providing us with your specific comments or concerns about the proposed project. By becoming a commenter, your concerns will be addressed in the EA and considered by the Commission. Your comments should focus on the potential environmental effects, reasonable alternatives (including alternative facility sites and pipeline routes), and measures to avoid or lessen environmental impact. The more specific your comments, the more useful they will be. To ensure that your comments are timely and properly recorded, please mail your comments so that they will be received in Washington, DC on or before September 20, 2007 and carefully follow these instructions:

Send an original and two copies of your letter to: Kimberly D. Bose, Secretary, Federal Energy Regulatory Commission, 888 First St., NE., Room 1A, Washington, DC 20426.

Label one copy of your comments for the attention of Gas Branch 2, DG2E. Reference Docket No. PF07-9-000 on the original and both copies. The Commission strongly encourages electronic filing of any comments in response to this Notice of Intent. For information on electronically filing comments, please see the instructions on the Commission's Web site at http://www.ferc.gov under the “e-Filing” link and the link to the User's Guide, as well as information in 18 CFR 385.2001(a)(1)(iii). Before you can submit comments, you will need to create a free account, which can be created on-line.

Based on the comments we receive on the project, we may hold a public scoping meeting. A public scoping meeting is designed to provide another opportunity to offer comments on the proposed project. Interested groups and individuals are encouraged to attend the meeting and to present comments on the issues they believe should be addressed in the EA. A transcript of the meeting would be generated so that your comments would be accurately recorded.

When Steckman submits its application for authorization to construct and operate the Steckman Ridge Storage Project, the Commission will publish a Notice of Application in the Federal Register and will establish a deadline for interested persons to intervene in the proceeding. Because the Commission's Pre-filing Process occurs before an application to begin a proceeding is officially filed, petitions to intervene during this process are premature and will not be accepted by the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. If you received this notice, you are currently on the environmental mailing list for this project. If you want to remain on our mailing list, please return the attached Information Request (Appendix 2). All individuals who provide written comments, attend the scoping meetings, or return the Information Request will remain on our environmental mailing list for this project.

Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF07-9) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm. Public meetings or site visits will be posted on the Commission's calendar located at http://www.ferc.gov/EventCalendar/EventsList.aspx along with other related information.

Finally, Steckman has established an Internet Web site for this project at www.steckmanridgestorage.com. The Web site includes a description of the project, maps of the proposed pipeline facilities, and answers to frequently asked questions. You can also request additional information or provide comments directly to Steckman by phone at 1-877-379-0338.

Kimberly D. Bose,
Secretary.

[FR Doc. E7-16743 Filed 8-23-07; 8:45 am]

BILLING CODE 6717-01-P